DEPARTMENT OF COMMERCE

International Trade Administration

[A-570-928]

Uncovered Innerspring Units from the People's Republic of China: Notice of Antidumping Duty Order

AGENCY: Import Administration, International Trade Administration, Department of Commerce.

SUMMARY: Based on affirmative final determinations by the Department of Commerce (“Department”) and the International Trade Commission (“ITC”), the Department is issuing an antidumping duty order on uncovered innerspring units (“innersprings”) from the People's Republic of China (“PRC”). On February 11, 2009, the ITC notified the Department of its affirmative determination of material injury to a U.S. industry. See Uncovered Innerspring Units from China (Investigation No. 731- TA-1140 (Final), USITC Publication 4061, February 2009).

EFFECTIVE DATE: February 19, 2009.

FOR FURTHER INFORMATION CONTACT: Susan Pulongbarit or Paul Walker, AD/CVD Operations, Office 9, Import Administration, International Trade Administration, U.S. Department of Commerce, 14th Street and Constitution Avenue NW, Washington, DC 20230; telephone: (202) 482-4031, or (202) 482-0413, respectively.

SUPPLEMENTARY INFORMATION:

Background

In accordance with sections 735(d) and 777(i)(1) of the Tariff Act of 1930, as amended (the “Act”), on December 29, 2008, the Department published its final determination of sales at less than fair value in the antidumping investigation of innersprings from the PRC. See Uncovered Innerspring Units From the People's Republic of China: Final Determination of Sales at Less Than Fair Value, 73 FR 79443 (December 29, 2008).

Scope of the Order

The merchandise subject to this order is uncovered innerspring units composed of a series of individual metal springs joined together in sizes corresponding to the sizes of adult mattresses (e.g., twin, twin long, full, full long, queen, California king, and king) and units used in smaller constructions, such as crib and youth mattresses. All uncovered innerspring units are included in this scope regardless of width and length. Included within this definition are innersprings typically ranging from 30.5 inches to 76 inches in width and 68 inches to 84 inches in length. Innersprings for crib mattresses typically range from 25 inches to 27 inches in width and 50 inches to 52 inches in length.

Uncovered innerspring units are suitable for use as the innerspring component in the manufacture of innerspring mattresses, including mattresses that incorporate a foam encasement around the innerspring.

Pocketed and non-pocketed innerspring units are included in this definition. Non-pocketed innersprings are typically joined together with helical wire and border rods. Non-pocketed innersprings are included in this definition regardless of whether they have border rods attached to the perimeter of the innerspring. Pocketed innersprings are individual coils covered by a “pocket” or “sock” of a nonwoven synthetic material or woven material and then glued together in a linear fashion.

Uncovered innersprings are classified under subheading 9404.29.9010 and have also been classified under subheadings 9404.10.0000, 7326.20.0070, 7320.20.5010, or 7320.90.5010 of the Harmonized Tariff Schedule of the United States (“HTSUS”). The HTSUS subheadings are provided for convenience and customs purposes only; the written description of the scope of the order is dispositive.

Antidumping Duty Order

On February 11, 2009, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of innersprings from the PRC. These antidumping duties will be assessed on all unliquidated entries of innersprings from the PRC entered, or withdrawn from the warehouse, for consumption on or after August 6, 2008, the date on which the Department published its preliminary determination. See Uncovered Innerspring Units from the People's Republic of China: Preliminary Determination of Sales at Less Than Fair Value, 73 FR 45729 (August 6, 2008).

Section 733(d) of the Act states that instructions issued pursuant to an affirmative preliminary determination may not remain in effect for more than four months except where exporters representing a significant proportion of exports of the subject merchandise request the Department to extend that four-month period to no more than six months. At the request of exporters that account for a significant proportion of innersprings, we extended the four-month period to no more than six months. See Postponement of Final Determination of Antidumping Duty Investigation: Uncovered Innerspring Units from the People's Republic of China, 73 FR 50932 (August 29, 2008). In this investigation, the six-month period beginning on the date of the publication of the preliminary determination ended on February 2, 2009. Furthermore, section 737 of the Act states that definitive duties are to begin on the date of publication of the ITC's final injury determination. Therefore, in accordance with section 733(d) of the Act and our practice, we will instruct CBP to terminate the suspension of liquidation and to liquidate, without regard to antidumping duties, unliquidated entries of innersprings from the PRC entered, or withdrawn from warehouse, for consumption on or after February 2, 2009, and before the date of publication of the ITC's final injury determination in the Federal Register. Suspension of liquidation will resume on or after the date of publication of the ITC's final injury determination in the Federal Register.

Effective on the date of publication of the ITC's final affirmative injury determination in the Federal Register, CBP, pursuant to section 735(c)(3) of the Act, will require, at the same time as importers would normally deposit estimated duties on this merchandise, a cash deposit equal to the estimated weighted-average antidumping duty margins as listed below. The “PRC-wide” rate applies to all exporters of subject merchandise not specifically listed. The weighted-average dumping margins are as follows:

Exporter | Producer | Weighted-Average Margin
Anshan Yuhua Industrial Trade Co., Ltd. | Anshan Yuhua Industrial Trade Co., Ltd. | 164.75%%
East Grace Corporation | Wuxi Xihuisheng Commercial Co., Ltd. | 164.75%%
Foshan Jingxin Steel Wire & Spring Co., Ltd. | Foshan Jingxin Steel Wire & Spring Co., Ltd. | 234.51%%
Hebei Yililan Furniture Co., Ltd. | Hebei Yililan Furniture Co., Ltd. | 164.75%%
Nanjing Meihua Import & Export Trade Co., Ltd. | Nanjing Dongdai Furniture Co., Ltd. | 164.75%%
Xilinmen Group Co., Ltd. | Xilinmen Furniture Co., Ltd. | 164.75%%
Zhejiang Sanmen Herod Mattress Co., Ltd. | Zhejiang Sanmen Herod Mattress Co., Ltd. | 164.75%%
Zibo Senbao Furniture Co., Ltd. | Zibo Senbao Furniture Co., Ltd. | 164.75%%
PRC-wide (including High Hope Int'l Group Jiangsu Native Produce Imp. & Exp. Corp. Ltd. and Jiangsu Soho International Group Holding Co., Ltd.) |  | 234.51%%

This notice constitutes the antidumping duty order with respect to innersprings from the PRC pursuant to section 736(a) of the Act. Interested parties may contact the Department's Central Records Unit, Room 1117 of the main Commerce building, for copies of an updated list of antidumping duty orders currently in effect.

This order is published in accordance with section 736(a) of the Act and 19 CFR 351.211.

Dated: February 13, 2009.
Ronald K. Lorentzen,
Acting Assistant Secretary for Import Administration.

[FR Doc. E9-3652 Filed 2-18-09; 8:45 am]

BILLING CODE 3510-DS-S